DEPARTMENT OF AGRICULTURE

Submission for OMB Review; Comment Request

October 26, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: General Administrative Regulations; Subpart V—Submission of Policies, Provisions of Policies and Rates of Premium.

OMB Control Number: 0563-0064.

Summary of Collections: The Federal Crop Insurance Corporation (FCIC) amends the procedures for the submission of policies, plans of insurance, or other rates or premium by insurance companies, entities or other persons. Public Law 96-365 provided for nationwide expansion of a comprehensive crop insurance program. The Federal Crop Insurance Act, as amended, expanded the role of the crop insurance to be the principal tool for risk management by producers of farm products and required that the crop insurance program operate on an actuarially sound basis. It provides for independent reviews of insurance products by persons experienced as actuaries and in underwriting. The Act was further amended in 2008 to provide the opportunity for the submission of a concept proposal to the FCIC Board of Directors (Board) for approval for advance payment of estimated research and development expenses.

Need and Use of the Information: An applicant has the option to submit a concept proposal or a submission package for a crop insurance product and have it presented to the Board. The Board will review an applicant's submissions to determine, if the interests of agricultural producers and taxpayers are protected; the submission is actuarially appropriate; appropriate insurance principles are followed; the requirements of the Act are met; and that sound, reasonable and appropriate underwriting principals are followed. If the information is incomplete, the submission will be disapproved.

Description of Respondents: Business or other-for-profit.

Number of Respondents: 556.

Frequency of Responses: Recordkeeping: Reporting; Other.

Total Burden Hours: 122,648.

Risk Management Agency

Title: Community Outreach and Assistance Partnership Program.

OMB Control Number: 0563-0066.

Summary of Collection: The Federal Crop Insurance Act of 2002 authorizes the Federal Crop Insurance Corporation (FCIC) to enter into partnerships with public and private entities for the purpose of increasing the availability of risk management tools for producers of agricultural commodities. The Risk Management Agency has developed procedures for the preparation, submission and evaluation of applications for partnership agreements that will be used to provide outreach and assistance to underserved producers, farmers, ranchers and women, limited resource, socially disadvantaged.

Need and Use of the Information: Applicants are required to submit materials and information necessary to evaluate and rate the merit of proposed projects and evaluate the capacity and qualification of the organization to complete the project. The application package should include: A project summary and narrative, a statement of work, a budget narrative and OMB grant forms. RMA and review panel will evaluate and rank applicants as well as use the information to properly document and protect the integrity of the process used to select applications for funding.

Description of Respondents: Not-for-profit institutions; Business or other for-profit; State, Local, or Tribal Government.

Number of Respondents: 120.

Frequency of Responses: Reporting: On occasion.

Total Burden Hours: 1,280.

Risk Management Agency

Title: Risk Management and Crop Insurance Education; Activity Log.

OMB Control Number: 0563-0070.

Summary of Collection: The Federal Crop Insurance Act, Title 7 U.S.C. Chapter 36 Section 1508(k) authorizes the Federal Crop Insurance Corporation (FCIC) to establish crop insurance education and information programs in States that have been historically underserved by Federal Crop insurance program (7 U.S.C. 1524(a)(2)) and provide agricultural producers with training opportunities in risk management. The Risk Management Agency (RMA) refers to these three programs as the Community Outreach and Assistance Partnership, Targeted States and Small Sessions programs available to carry out certain risk management education provisions of the Federal Crop Insurance Act.

Need and Use of the Information: RMA will use Form RMA-300, Activity Log, to collect information to monitor certain educational activities. Agreement holders are required to record specific information about each educational activity conducted under the agreement in an Activity Log and submit as part of the required quarterly progress report. In addition, RMA will use information provided by agreement holders to ensure that funded educational projects are progressing.

Description of Respondents: Not-for-profit institutions; Business or other for-profit; State, Local, or Tribal Government.

Number of Respondents: 167.

Frequency of Responses: Reporting: Quarterly.

Total Burden Hours: 736.

Charlene Parker,
Departmental Information Clearance Officer.

[FR Doc. 2010-27376 Filed 10-28-10; 8:45 am]

BILLING CODE 3410-08-P